DEPARTMENT OF DEFENSE

Office of the Secretary

[Transmittal No. 25-0E]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b) arms sales notification is published to fulfill the requirements of section 155 of Public Law 104-164 dated July 21, 1996. The following is a copy of a letter to the Speaker of the House of Representatives with attached Transmittal 25-0E.

Dated: January 29, 2026.
Stephanie J. Bost,
Alternate OSD Federal Register Liaison Officer, Department of Defense.

BILLING CODE 6001-FR-P

BILLING CODE 6001-FR-C

Transmittal No. 25-0E

REPORT OF ENHANCEMENT OR UPGRADE OF SENSITIVITY OF TECHNOLOGY OR CAPABILITY (SEC. 36(B)(5)(C), AECA)

(i) Purchaser: Government of Israel

(ii) Sec. 36(B)(1), AECA Transmittal No.: 24-08

Date: August 13, 2024

Implementing Agency: Air Force

Funding Source: Foreign Military Financing

(iii) Description: On August 13, 2024, Congress was notified by congressional certification transmittal number 24-08 of the possible sale, under Section 36(b)(1) of the Arms Export Control Act, of thirty (30) AIM-120C-8 Advanced Medium Range Air-to-Air Missiles (AMRAAM); and one (1) AMRAAM guidance section (spare). The following non-MDE items were also included: AMRAAM control sections and containers; Common Munitions Built-In-Test/Reprogramming Equipment (CMBRE); ADU-891/E Adapter Group Computer Test Sets; spare parts, consumables, accessories, repair and return support, classified and unclassified publications, and technical documentation; classified software delivery and support; munitions support and support equipment; test support and support equipment; personnel training and training equipment; warranties; studies and surveys; contractor logistics support services; United States (U.S.) Government and contractor engineering, technical, and logistics support services; and other related elements of logistics and program support. The estimated total cost was $102.5 million. Major Defense Equipment (MDE) constituted $66 million of this total.

This transmittal notifies the inclusion of the following additional MDE items: one hundred eight (108) AIM-120C-8 AMRAAMs; and two (2) AIM-120C-8 AMRAAM guidance sections. The following non-MDE items will also be included: weapon system support, to include software, and other related elements of logistics and program support. The estimated total value of the new items is $305 million. The estimated MDE value will increase by $259 million to a revised $325 million. The estimated non-MDE value will increase by $46 million to a revised $82.5 million. The estimated total case value will increase by $305 million to a revised $407.5 million.

(iv) Significance: The inclusion of this additional MDE represents an increase in quantity over what was previously notified. The proposed sale will improve Israel's capability to meet current and future threats, strengthen its homeland defense, and serve as a deterrent to regional threats.

(v) Justification: The U.S. is committed to the security of Israel, and it is vital to U.S. national interests to assist Israel to develop and maintain a strong and ready self-defense capability. This proposed sale is consistent with those objectives.

(vi) Sensitivity of Technology:

The Sensitivity of Technology Statement contained in the original notification applies to items reported here.

The highest level of classification of defense articles, components, and services included in this potential sale is SECRET.

(vii) Date Report Delivered to Congress: February 3, 2025

[FR Doc. 2026-02054 Filed 1-30-26; 8:45 am]

BILLING CODE 6001-FR-P